DEPARTMENT OF EDUCATION

National Advisory Council on Indian Education (NACIE)

AGENCY: U.S. Department of Education.

ACTION: Notice of an Open Meeting.

SUMMARY: This notice sets forth the schedule and proposed agenda of an upcoming meeting of the National Advisory Council on Indian Education (the Council) and is intended to notify the general public of the meeting. This notice also describes the functions of the Council. Notice of the Council's meetings is required under Section 10(a)(2) of the Federal Advisory Committee Act and by the Council's charter.

Agenda: The purpose of the meeting will be for the Council to receive a briefing on three reports: Parts I and II of the National Indian Education Study and The Status and Trends of Indian Education Report, and to receive informational updates on State initiatives by selected State Indian Education Directors.

Date and Time: July 7, 2008; 1:00 p.m. to 5:30 p.m. Mountain Daylight Savings Time. This notice is appearing in the Federal Register less than 15 days before the date of the meeting due to scheduling difficulties within the agency and with the Council.

Location: Holiday Inn, Rapid City, South Dakota.

Public Comment: Time is scheduled on the agenda to receive public comment at approximately 4:45 p.m. Mountain Daylight Savings Time. Oral comments will be limited to not more than 10 minutes per individual or group. Written comments will also be accepted at the meeting or may be submitted until the time of the meeting via e-mail to: Cathie.Carothers@ed.gov.

FOR FURTHER INFORMATION CONTACT: Cathie Carothers, Director, Office of Indian Education, U.S. Department of Education, 400 Maryland Avenue, SW., Washington, DC 20202. Telephone: 202-260-1683. Fax: 202-260-7779.

SUPPLEMENTARY INFORMATION: The National Advisory Council on Indian Education is authorized by Section 7141 of the Elementary and Secondary Education Act. The Committee is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

The purpose of this meeting is to provide the Council with a briefing on three new reports recently completed by the Department: The National Indian Education Study, Parts I and II, and The Status and Trends of Indian Education which will be released at the National Conference on Indian Education that starts on July 8, 2008 in Rapid City, South Dakota. The Council will also receive informational updates on State initiatives by selected State Indian Education Directors and general updates from the Department of Education. The meeting is being held as a pre-conference activity of the National Conference on Indian Education which is an activity of Executive Order 13336 on American Indian and Alaska Native Education.

Individuals who will need accommodations for a disability in order to attend the meeting (e.g., interpreting services, assistance listening devices, or materials in alternative format) should notify Cathie Carothers at (202) 260-7485 no later than July 1, 2008. We will attempt to meet requests for accommodations after this date but cannot guarantee their availability. The meeting site is accessible to individuals with disabilities.

Records are kept of all Council proceedings and are available for public inspection at the Office of Indian Education, United States Department of Education, Room 5C140, 400 Maryland Avenue, SW., Washington, DC 20202.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Kerri L. Briggs,
Assistant Secretary for Elementary and Secondary Education.

[FR Doc. E8-14269 Filed 6-23-08; 8:45 am]

BILLING CODE 4000-01-P